DEPARTMENT OF TRANSPORTATION

Federal Aviation Administration

14 CFR Part 97

[Docket No. 31148; Amdt. No. 3759]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 17, 2017. The compliance date for each SIAP, associated Takeoff Minimums, and ODP is specified in the amendatory provisions.

The incorporation by reference of certain publications listed in the regulations is approved by the Director of the Federal Register as of August 17, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on July 28, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 14 September 2017

Magnolia, AR, Ralph C Weiser Field, Takeoff Minimums and Obstacle DP, Amdt 1B

Monticello, AR, Monticello Muni/Ellis Field, RNAV (GPS) RWY 21, Amdt 1

Keokuk, IA, Keokuk Muni, ILS OR LOC/DME RWY 26, Orig-D

Tipton, IA, Mathews Memorial, RNAV (GPS) RWY 11, Orig-A

Washington, IA, Washington Muni, VOR/DME RWY 36, Amdt 1B

Moline, IL, Quad City Intl, ILS OR LOC RWY 9, Amdt 31B

Angola, IN, Tri-State Steuben County, NDB RWY 5, Amdt 7B, CANCELED

Fort Wayne, IN, Fort Wayne Intl, LOC BC RWY 14, Amdt 15C, CANCELED

Kentland, IN, Kentland Muni, VOR/DME RNAV OR GPS RWY 27, Orig-A, CANCELED

Kentland, IN, Kentland Muni, VOR OR GPS-A, Amdt 3, CANCELED

Dodge City, KS, Dodge City Rgnl, RNAV (GPS) RWY 2, Orig

Dodge City, KS, Dodge City Rgnl, RNAV (GPS) RWY 20, Orig

St Louis, MO, St Louis Lambert Intl, Takeoff Minimums and Obstacle DP, Amdt 3

Emporia, VA, Emporia-Greensville Rgnl, RNAV (GPS) RWY 16, Amdt 2A

East Troy, WI, East Troy Muni, VOR/DME-A, Amdt 1B

Fort Atkinson, WI, Fort Atkinson Muni, VOR-A, Orig-D

Effective 12 October 2017

Holy Cross, AK, Holy Cross, RNAV (GPS) RWY 1, Orig-C

Holy Cross, AK, Holy Cross, RNAV (GPS) RWY 19, Orig-C

Alexander City, AL, Thomas C Russell Fld, RNAV (GPS) RWY 18, Amdt 2

Alexander City, AL, Thomas C Russell Fld, RNAV (GPS) RWY 36, Amdt 3

Napa, CA, Napa County, RNAV (GPS) Y RWY 36L, Amdt 2B

Okeechobee, FL, Okeechobee County, RNAV (GPS) RWY 32, Orig-D

Orlando, FL, Orlando Sanford Intl, ILS OR LOC RWY 27R, Amdt 4

Orlando, FL, Orlando Sanford Intl, RNAV (GPS) RWY 27R, Amdt 4

Panama City, FL, Northwest Florida Beaches Intl, VOR/DME RWY 16, Orig, CANCELED

Panama City, FL, Northwest Florida Beaches Intl, VOR/DME RWY 34, Orig, CANCELED

West Palm Beach, FL, Palm Beach Intl, ILS OR LOC RWY 28R, Amdt 3B

Cedar Rapids, IA, The Eastern Iowa, ILS OR LOC RWY 9, Amdt 18C

Cedar Rapids, IA, The Eastern Iowa, ILS OR LOC RWY 27, Amdt 6E

Iowa City, IA, Iowa City Muni, VOR-A, Orig-B

Chicago, IL, Chicago O'Hare Intl, Takeoff Minimums and Obstacle DP, Amdt 20B

Smith Center, KS, Smith Center Muni, RNAV (GPS) RWY 18, Amdt 1

Smith Center, KS, Smith Center Muni, RNAV (GPS) RWY 36, Amdt 1

Boston, MA, General Edward Lawrence Logan Intl, Takeoff Minimums and Obstacle DP, Amdt 14A

Newberry, MI, Luce County, VOR RWY 11, Amdt 12, CANCELED

Newberry, MI, Luce County, VOR RWY 29, Amdt 12, CANCELED

Boonville, MO, Jesse Viertel Memorial, VOR-A, Amdt 5A

Columbia, MO, Columbia Rgnl, ILS OR LOC RWY 2, Amdt 16

Columbia, MO, Columbia Rgnl, LOC BC RWY 20, Amdt 13

Columbia, MO, Columbia Rgnl, RNAV (GPS) RWY 2, Amdt 2

Columbia, MO, Columbia Rgnl, RNAV (GPS) RWY 13, Amdt 1

Columbia, MO, Columbia Rgnl, RNAV (GPS) RWY 20, Amdt 2

Columbia, MO, Columbia Rgnl, RNAV (GPS) RWY 31, Amdt 1

Columbia, MO, Columbia Rgnl, Takeoff Minimums and Obstacle DP, Amdt 6

Columbia, MO, Columbia Rgnl, VOR RWY 13, Amdt 4

Columbia, MO, Columbia Rgnl, VOR Y RWY 20, Amdt 4

Columbia, MO, Columbia Rgnl, VOR Z RWY 20, Amdt 5

Fulton, MO, Elton Hensley Memorial, VOR-A, Amdt 5

Jefferson City, MO, Jefferson City Memorial, ILS OR LOC RWY 30, Amdt 6

Lee's Summit, MO, Lee's Summit Muni, RNAV (GPS) RWY 11, Amdt 2

Rolla/Vichy, MO, Rolla National, RNAV (GPS) RWY 22, Orig-A

Fargo, ND, Hector Intl, ILS OR LOC RWY 36, Amdt 2

Atlantic City, NJ, Atlantic City Intl, ILS OR LOC RWY 13, Amdt 8B

Atlantic City, NJ, Atlantic City Intl, RNAV (GPS) RWY 22, Amdt 4B

Atlantic City, NJ, Atlantic City Intl, RNAV (RNP) Z RWY 13, Orig-C

Atlantic City, NJ, Atlantic City Intl, Takeoff Minimums and Obstacle DP, Orig-A

Atlantic City, NJ, Atlantic City Intl, VOR RWY 4, Amdt 15C

Berlin, NJ, Camden County, RNAV (GPS) RWY 5, Orig-E

Berlin, NJ, Camden County, VOR-B, Amdt 2B

Hammonton, NJ, Hammonton Muni, RNAV (GPS) RWY 3, Amdt 1C

Hammonton, NJ, Hammonton Muni, VOR-B, Amdt 2C

Millville, NJ, Millville Muni, ILS OR LOC RWY 10, Amdt 2C

Millville, NJ, Millville Muni, VOR-A, Amdt 1B

Ocean City, NJ, Ocean City Muni, VOR-A, Orig-B

Vineland, NJ, Kroelinger, VOR OR GPS-B, Orig-A

Artesia, NM, Artesia Muni, NDB RWY 13, Amdt 5

Artesia, NM, Artesia Muni, NDB RWY 31, Amdt 5

Artesia, NM, Artesia Muni, RNAV (GPS) RWY 13, Amdt 2

Artesia, NM, Artesia Muni, RNAV (GPS) RWY 31, Amdt 2

Artesia, NM, Artesia Muni, Takeoff Minimums and Obstacle DP, Amdt 1

Syracuse, NY, Syracuse Hancock Intl, Takeoff Minimums and Obstacle DP, Amdt 8

Ashtabula, OH, Northeast Ohio Rgnl, RNAV (GPS) RWY 9, Amdt 1

Ashtabula, OH, Northeast Ohio Rgnl, RNAV (GPS) RWY 27, Amdt 1

Ashtabula, OH, Northeast Ohio Rgnl, Takeoff Minimums and Obstacle DP, Amdt 1

Ashtabula, OH, Northeast Ohio Rgnl, VOR RWY 9, Orig-D, CANCELED

Ashtabula, OH, Northeast Ohio Rgnl, VOR RWY 27, Amdt 7

Ashtabula, OH, Northeast Ohio Rgnl, VOR-A, Orig

Cleveland, OH, Burke Lakefront, Takeoff Minimums and Obstacle DP, Amdt 6

Finleyville, PA, Finleyville Airpark, RNAV (GPS)-A, Orig

Finleyville, PA, Finleyville Airpark, Takeoff Minimums and Obstacle DP, Orig

Crewe, VA, Crewe Muni, RNAV (GPS) RWY 15, Orig-A, CANCELED

Crewe, VA, Crewe Muni, RNAV (GPS) RWY 33, Orig, CANCELED

Crewe, VA, Crewe Muni, RNAV (GPS)-A, Orig

Crewe, VA, Crewe Muni, RNAV (GPS)-B, Orig

Newport, VT, Northeast Kingdom Intl, RNAV (GPS) RWY 36, Amdt 1A

Newport, VT, Northeast Kingdom Intl, Takeoff Minimums and Obstacle DP, Amdt 3A

Seattle, WA, Boeing Field/King County Intl, RNAV (RNP) Z RWY 14R, Amdt 1

Seattle, WA, Boeing Field/King County Intl, Takeoff Minimums and Obstacle DP, Amdt 8

Fond Du Lac, WI, Fond Du Lac County, LOC RWY 36, Amdt 1A

Tomahawk, WI, Tomahawk Rgnl, RNAV (GPS) RWY 27, Amdt 2B

Watertown, WI, Watertown Muni, NDB RWY 5, Amdt 1D

Watertown, WI, Watertown Muni, NDB RWY 23, Amdt 2A

Watertown, WI, Watertown Muni, RNAV (GPS) RWY 23, Orig-A

Watertown, WI, Watertown Muni, RNAV (GPS) RWY 29, Orig-A

Watertown, WI, Watertown Muni, VOR RWY 29, Orig-C

Parkersburg, WV, Mid-Ohio Valley Rgnl, ILS OR LOC RWY 3, Amdt 14B

Parkersburg, WV, Mid-Ohio Valley Rgnl, RNAV (GPS) RWY 10, Orig-B

Parkersburg, WV, Mid-Ohio Valley Rgnl, RNAV (GPS) RWY 28, Orig-B

Parkersburg, WV, Mid-Ohio Valley Rgnl, VOR RWY 21, Amdt 17C

RESCINDED: On July 13, 2017 (82 FR 32228), the FAA published an Amendment in Docket No. 31139, Amdt No. 3751 to Part 97 of the Federal Aviation Regulations under section 97.29 and 97.33. The following entries for Orlando, FL, effective July 20, 2017, are hereby rescinded in their entirety:

Orlando, FL, Orlando Sanford Intl, ILS OR LOC RWY 27R, Amdt 4

Orlando, FL, Orlando Sanford Intl, RNAV (GPS) RWY 27R, Amdt 4

[FR Doc. 2017-17005 Filed 8-16-17; 8:45 am]

BILLING CODE 4910-13-P